DEPARTMENT OF STATE

[Public Notice 7878]

List of Participating Countries and Entities Under the Clean Diamond Trade Act of 2003

AGENCY: Department of State.

ACTION: Notice.

SUMMARY: The Department of State is identifying all the Participating Countries and Entities eligible for trade in rough diamonds under the Clean Diamond Trade Act of 2003, and their respective Importing and Exporting Authorities, and revising the previously published list of December 31, 2008 to add Swaziland.

FOR FURTHER INFORMATION CONTACT: Brad Brooks-Rubin, Special Advisor for Conflict Diamonds, Bureau of Economic, Energy, and Business Affairs, Department of State (202) 647-2856.

SUPPLEMENTARY INFORMATION: In accordance with Sections 3 and 6 of the Clean Diamond Trade Act of 2003 (Pub. L. 108-19) and Section 2 of Executive Order 13312 of July 29, 2003 the Department of State is identifying all the Participating Countries and Entities (Hereinafter Known as “Participants”) eligible for trade in rough diamonds under the Clean Diamond Trade Act of 2003, and their respective Importing and Exporting Authorities, and revising the previously published list of December 31, 2008 (73 FR 80506) to add Swaziland.

Section 4 of the Clean Diamond Trade Act (the “Act”) requires the President to prohibit the importation into, or the exportation from, the United States of any rough diamond, from whatever source, that has not been controlled through the Kimberley Process Certification Scheme (KPCS). Under Section 3(2) of the Act, “controlled through the Kimberley Process Certification Scheme” means an importation from the territory of a Participant or exportation to the territory of a Participant of rough diamonds that is either carried out in accordance with the KPCS, as set forth in regulations promulgated by the President, or controlled under a system determined by the President to meet substantially the standards, practices, and procedures of the KPCS. The referenced regulations are contained at 31 CFR part 592 (“Rough Diamonds Control Regulations”). Section 6(b) of the Act requires the President to publish in the Federal Register a list of all Participants, and all Importing and Exporting Authorities of Participants, and to update the list as necessary. Section 2 of Executive Order 13312 delegates this function to the Secretary of State. Section 3(7) of the Act defines “Participant” as a state, customs territory, or regional economic integration organization identified by the Secretary of State. Section 3(3) of the Act defines “Exporting Authority” as one or more entities designated by a Participant from whose territory a shipment of rough diamonds is being exported as having the authority to validate a Kimberley Process Certificate. Section 3(4) of the Act defines “Importing Authority” as one or more entities designated by a Participant into whose territory a shipment of rough diamonds is imported as having the authority to enforce the laws and regulations of the Participant regarding imports, including the verification of the Kimberley Process Certificate accompanying the shipment.

List of Participants

Pursuant to Section 3 of the Act, Section 2 of Executive Order 13312, and Delegation of Authority No. 245-1 (February 13, 2009), I hereby identify the following entities as of May 26, 2011, as Participants under section 6(b) of the Act. Included in this List are the Importing and Exporting Authorities for Participants, as required by Section 6(b) of the Act. This list revises the previously published list of December 31, 2008, to add Swaziland to the list of Participants in the Kimberley Process Certification Scheme.

Angola—Ministry of Geology and Mines.

Armenia—Ministry of Trade and Economic Development.

Australia—Exporting Authority—Department of Industry, Tourism and Resources; Importing Authority—Australian Customs Service.

Bangladesh—Ministry of Commerce.

Belarus—Department of Finance.

Botswana—Ministry of Minerals, Energy and Water Resources.

Brazil—Ministry of Mines and Energy.

Canada—Natural Resources Canada.

Central African Republic—Ministry of Energy and Mining.

China—General Administration of Quality Supervision, Inspection and Quarantine.

Democratic Republic of the Congo—Ministry of Mines.

Republic of Congo—Ministry of Mines.

Croatia—Ministry of Economy.

European Union—DG/External Relations/A.2.

Ghana—Precious Minerals and Marketing Company Ltd.

Guinea—Ministry of Mines and Geology.

Guyana—Geology and Mines Commission.

India—The Gem and Jewelry Export Promotion Council.

Indonesia—Directorate General of Foreign Trade of the Ministry of Trade.

Israel—The Diamond Controller.

Japan—Ministry of Economy, Trade and Industry.

Republic of Korea—Ministry of Commerce, Industry and Energy.

Laos—Ministry of Finance.

Lebanon—Ministry of Economy and Trade.

Lesotho—Commissioner of Mines and Geology.

Liberia—Ministry of Lands, Mines and Energy.

Malaysia—Ministry of International Trade and Industry.

Mauritius—Ministry of Commerce.

Namibia—Ministry of Mines and Energy.

Mexico—Economic Secretariat.

New Zealand—Ministry of Foreign Affairs and Trade.

Norway—The Norwegian Goldsmiths' Association.

Russia—Gokhran, Ministry of Finance.

Sierra Leone—Government Gold and Diamond Office.

Singapore—Singapore Customs.

South Africa—South African Diamond Board.

Sri Lanka—National Gem and Jewellery Authority.

Swaziland—Office of the Commissioner of Mines.

Switzerland—State Secretariat for Economic Affairs.

Chinese Taipei—Bureau of Foreign Trade.

Tanzania—Commissioner for Minerals.

Thailand—Ministry of Commerce.

Togo—Ministry of Mines and Geology.

Turkey—Istanbul Gold Exchange.

Ukraine—State Gemological Centre of Ukraine.

United Arab Emirates—Dubai Metals and Commodities Center.

United States of America—Importing Authority—United

States Bureau of Customs and Border Protection; Exporting Authority—Bureau of the Census.

Vietnam—Ministry of Trade.

Zimbabwe—Ministry of Mines and Mining Development.

This notice shall be published in the Federal Register.

Dated: October 31,2011.
William J. Burns,
Deputy Secretary of State, Department of State.

[FR Doc. 2012-11447 Filed 5-10-12; 8:45 am]

BILLING CODE 4710-07-P